DEPARTMENT OF COMMERCE

International Trade Administration

South Dakota State University, et al., Notice of Consolidated Decision on Applications for Duty-Free Entry of Scientific Instruments

This is a decision pursuant to Section 6(c) of the Educational, Scientific, and Cultural Materials Importation Act of 1966 (Pub. L. 89-651, as amended by Pub. L. 106-36; 80 Stat. 897; 15 CFR part 301). Related records can be viewed between 8:30 a.m. and 5:00 p.m. in Room 3720, U.S. Department of Commerce, 14th and Constitution Ave. NW., Washington, DC.

Comments: None received. Decision: Approved. We know of no instruments of equivalent scientific value to the foreign instruments described below, for such purposes as each is intended to be used, that was being manufactured in the United States at the time of its order.

Docket Number: 13-030. Applicant: South Dakota State University, Brookings, SD 57007. Instrument: iMIC Andromeda. Manufacturer: Till Photonics, Germany. Intended Use: See notice at 78 FR 70536, November 26, 2013. Comments: None received. Decision: Approved. We know of no instruments of equivalent scientific value to the foreign instruments described below, for such purposes as this is intended to be used, that was being manufactured in the United States at the time of order. Reasons: The instrument will be used to fluorescently label the macrophage colony stimulating factor (MCSF) and other signaling molecules in live primary bone marrow macrophages (BMMs). This instrument is the only confocal using a single micro lens disk, making it the only spinning disk system available that meets the needs for fast, multi fluorophore and Fluorescence Resonance Energy Transfer experiments over a range of objective lens magnifications. Furthermore, it is the only instrument that can rapidly interchange custom dichtroich mirrors, which is essential for experiments relying on new fluorescent proteins.

Docket Number: 13-043. Applicant: University of Colorado at Boulder, Boulder, CO 80309. Instrument: Cyclic Triaxial Testing Device. Manufacturer: Willie Geotechnik, Germany. Intended Use: See notice at 78 FR 70536-37, November 23, 2013. Comments: None received. Decision: Approved. We know of no instruments of equivalent scientific value to the foreign instruments described below, for such purposes as this is intended to be used, that was being manufactured in the United States at the time of order. Reasons: The instrument will be used to study the response of soils under monotonic static loading compared to 1-D and 2-D cyclic loading, evaluate the influence of load amplitude and frequency content on the response of soils in terms of shear modulus and damping versus strain, and evaluate the influence of soil-content on its dynamic properties. It is critical to have the capability to simulate realistic static and dynamic stress conditions to the soil samples, which is facilitated by the instrument. The key specification in the research that was satisfied by the instrument is the ability to apply cyclic loading at high frequencies (up to about 30Hz) to simulate earthquake loading. The instrument is also capable of testing soil samples larger than 70mm, the pressure system/pressure controller has a resolution of 0.1 KPa which provides greater accuracy, and the load frame capacity for both static and dynamic loading is 25 KN.

Dated: March 7, 2014.
Gregory W. Campbell,
Director, Subsidies Enforcement Office, Enforcement and Compliance.

[FR Doc. 2014-05535 Filed 3-12-14; 8:45 am]

BILLING CODE 3510-DS-P